DEPARTMENT OF DEFENSE

Department of the Navy

[Docket ID: USN-2022-HQ-0014]

Proposed Collection; Comment Request

AGENCY: Department of the Navy, Department of Defense (DoD).

ACTION: 60-Day information collection notice.

SUMMARY: In compliance with the Paperwork Reduction Act of 1995, the Department of the Navy announces a proposed public information collection and seeks public comment on the provisions thereof. Comments are invited on: Whether the proposed collection of information is necessary for the proper performance of the functions of the agency, including whether the information shall have practical utility; the accuracy of the agency's estimate of the burden of the proposed information collection; ways to enhance the quality, utility, and clarity of the information to be collected; and ways to minimize the burden of the information collection on respondents, including through the use of automated collection techniques or other forms of information technology.

DATES: Consideration will be given to all comments received by July 12, 2022.

ADDRESSES: You may submit comments, identified by docket number and title, by any of the following methods:

Federal eRulemaking Portal: http://www.regulations.gov. Follow the instructions for submitting comments.

Mail: Department of Defense, Office of the Assistant to the Secretary of Defense for Privacy, Civil Liberties, and Transparency, Regulatory Directorate, 4800 Mark Center Drive, Attn: Mailbox 24, Suite 08D09, Alexandria, VA 22350-1700.

Instructions: All submissions received must include the agency name, docket number and title for this Federal Register document. The general policy for comments and other submissions from members of the public is to make these submissions available for public viewing on the internet at http://www.regulations.gov as they are received without change, including any personal identifiers or contact information.

FOR FURTHER INFORMATION CONTACT: To request more information on this proposed information collection or to obtain a copy of the proposal and associated collection instruments, please write to the Naval Postgraduate School, 1 University Circle, Monterey, CA 93943, ATTN: Dr. Kathryn Aten, or call (831) 656-2644.

SUPPLEMENTARY INFORMATION: Title; Associated Form; and OMB Number: Optimized Fleet Response Plan Phase Variation in Signature and Destructive Behaviors; OMB Control Number 0703-OFRP.

Needs and Uses: Congruent with research findings, the Chief of Naval Operations has directed the Navy to create a “Culture of Excellence,” noting that by focusing on positive, signature behaviors, the Navy can build and sustain a lethal force of tough sailors who are ethical and masters of their trade. The Navy has identified ten signature behaviors to drive a culture of excellence: Treat every person with respect, take responsibility, hold others accountable, intervene, when necessary, be a leader and encourage leadership, embrace diversity, uphold integrity, exercise discipline, and contribute to team success.

The Culture of Excellence Campaign's Perform to Plan effort will empower warfighting capability by fostering psychological, physical, and emotional toughness. To meet this goal, the Navy needs to understand what encourages signature behaviors and reduces destructive behaviors and how these behaviors impact readiness. The overarching aim of this study is to support this effort. The study will answer three questions: (1) What are the rates of signature and destructive behaviors during three phases of Optimized Fleet Response Plan (OFRP)? (2) Do rates differ by organizational command (department)? (3) How do signature and destructive behaviors impact readiness?

Researchers will utilize a mixed-methods, explanatory sequential design where the first phase will be quantitative (survey) followed by a qualitative phase (interviews) to elaborate on the quantitative findings. The team will ascertain the rates of signature and destructive behaviors and differences across selected command types by collecting self-report survey data on the prevalence of selected signature and destructive behaviors from sailors in different phases of the OFRP and in selected different command types. The team will compare the data across phases and selected commands to assess differences and identify patterns. The team will investigate how selected signature and destructive behaviors affect readiness through quantitative and qualitative data collection and analysis.

Affected Public: Individuals or households.

Annual Burden Hours: 292.5.

Number of Respondents: 585.

Responses per Respondent: 1.

Annual Responses: 585.

Average Burden per Response: 30 minutes.

Frequency: One-time.

Dated: May 9, 2022.
Aaron T. Siegel,
Alternate OSD Federal Register Liaison Officer, Department of Defense.

[FR Doc. 2022-10318 Filed 5-12-22; 8:45 am]

BILLING CODE 5001-06-P